DEPARTMENT OF ENERGY

[ FE Docket Nos.12-64-NG; 12-71-NG]

Notice of Orders Granting Applications to Import and Export Natural Gas and Vacating Prior Authority During July 2012; J. Aron & Company; Iberdrola Renewables, LLC

AGENCY: Office of Fossil Energy, Department of Energy (DOE).

ACTION: Notice of orders.

SUMMARY: The Office of Fossil Energy (FE) of the Department of Energy gives notice that during July 2012, it issued Orders granting applications to import and export natural gas and vacating prior authority. These Orders are summarized in the attached appendix and may be found on the FE web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on August 30, 2012.
John A. Anderson,
Manager, Natural Gas Regulatory Activities, Office of Oil and Gas Global Security and Supply, Office of Fossil Energy.

Appendix—DOE/FE Orders Granting Import/Export Authorizations

Order No. | Date issued | FE Docket No. | Authorization holder | Description of action
3126 | 07/19/12 | 12-64-NG | J. Aron & Company | Order granting blanket authority to import/export natural gas from/to Canada/Mexico and vacating prior authority, Order 2797.
3127 | 07/24/12 | 12-71-NG | Iberdrola Renewables, LLC | Order granting blanket authority to import/export natural gas from/to Canada/Mexico and vacating prior authority, Order 2792.

[FR Doc. 2012-22081 Filed 9-6-12; 8:45 am]

BILLING CODE 6450-01-P